DEPARTMENT OF COMMERCE

International Trade Administration

[A-570-095]

Aluminum Wire and Cable From the People's Republic of China: Final Results of Antidumping Duty Administrative Review; 2019-2020

AGENCY: Enforcement and Compliance, International Trade Administration, Department of Commerce.

SUMMARY: The Department of Commerce (Commerce) is conducting an administrative review of the antidumping duty (AD) order on aluminum wire and cable from the People's Republic of China (China) covering the period June 5, 2019, through November 30, 2020. We determine that ICF Cable and Jin Tiong Electrical Materials Manufacturer PTE, Limited (Jin Tiong) are not eligible for a separate rate, and, therefore, are part of the China-wide entity.

DATES: Applicable December 27, 2021.

FOR FURTHER INFORMATION CONTACT: Sean Carey, AD/CVD Operations, Office VII, Enforcement and Compliance, International Trade Administration, U.S. Department of Commerce, 1401 Constitution Avenue NW, Washington, DC 20230; telephone: (202) 482-3964.

SUPPLEMENTARY INFORMATION:

Background

On September 2, 2021, the Department of Commerce (Commerce) published its preliminary results of the administrative review of the antidumping duty order on aluminum wire and cable from the People's Republic of China (China).¹ The domestic interested parties in this review are Encore Wire Corporation and Southwire Company, LLC (collectively, the petitioners for the original less-than-fair-value investigation). The companies subject to this administrative review are ICF Cable and Jin Tiong. A complete summary of the events that occurred since publication of the Preliminary Determination, as well as a full discussion of the issues raised by parties for this final determination, may be found in the Issues and Decision Memorandum.²

¹ See Aluminum Wire and Cable from the People's Republic of China: Preliminary Results of Antidumping Administrative Review; 2019-2020, 86 FR 49306 (September 2, 2021) (Preliminary Results).

² See Memorandum, “Issues and Decision Memorandum for the Final Results of Antidumping Duty Administrative Review: Aluminum Wire and Cable from the People's Republic of China; 2019-2020,” dated concurrently with, and hereby adopted by, this notice (Issues and Decision Memorandum).

Scope of the Order

The products covered by the order are aluminum wire and cable from China. For a full description of the scope of the order, see “Scope of the Order,” in the appendix of the Preliminary Results.

Analysis of Comments Received

We addressed all issues raised in the case and rebuttal briefs submitted by parties in this review in the Issues and Decision Memorandum, which is hereby adopted by this notice. The Issues and Decision Memorandum is a public document and is on file electronically via Enforcement and Compliance's Antidumping and Countervailing Duty Centralized Electronic Service System (ACCESS). ACCESS is available to registered users at https://access.trade.gov. A list of topics discussed in the Issues and Decision Memorandum is included as an appendix to this notice. In addition, a complete version of the Issues and Decision Memorandum can be accessed directly at https://access.trade.gov/public/FRNoticesListLayout.aspx.

Final Results of Review

We made no changes to the Preliminary Results and continue to find that both ICF Cable and Jin Tiong are not eligible for a separate rate because neither company established its eligibility for a separate rate. Therefore, we continue to find both ICF Cable and Jin Tiong to be part of the China-wide entity.

In this administrative review, no party requested a review of the China-wide entity, and Commerce did not initiate a review of the China-wide entity. Because no review of the China-wide entity has been initiated, the China-wide entity's entries are not subject to the review, and the weighted-average dumping margin applicable to the China-wide entity is not subject to change as a result of this review. The existing weighted-average dumping margin, and, therefore, the applicable cash deposit rate and assessment rate for antidumping duties, is 52.79 percent, the rate established in the final determination of the less-than-fair-value investigation.³

³ See Aluminum Wire and Cable from the People's Republic of China: Antidumping Duty and Countervailing Duty Orders, 84 FR 70496, 70497 (December 23, 2019).

Disclosure and Public Comment

Normally, Commerce discloses the calculations used in its analysis to parties in a review within five days of the date of publication of the notice of final results, in accordance with 19 CFR 351.224(b). However, in this review, there are no calculations on the record to disclose.

Assessment Rates

Commerce shall determine, and U.S. Customs and Border Protection (CBP) shall assess, antidumping duties on all appropriate entries in accordance with section 751(a)(2)(C) of the Act and 19 CFR 351.212(b). Because we determined that ICF Cable and Jin Tiong are not eligible for a separate rate and are part of the China-wide entity, we will instruct CBP to apply an ad valorem assessment rate for antidumping duties of 52.79 percent to all entries of subject merchandise during the POR that were exported by ICF Cable and Jin Tiong.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for shipments of the subject merchandise from China entered, or withdrawn from warehouse, for consumption on or after the publication date, as provided by section 751(a)(2)(C) of the Act: (1) For previously investigated or reviewed Chinese or non-Chinese exporters that received a separate rate in a prior completed segment of this proceeding, the cash deposit rate will continue to be the existing exporter-specific rate; (2) for all Chinese exporters of subject merchandise that have not been found to be entitled to a separate rate, the cash deposit rate will be the cash deposit rate for the China-wide entity (i.e., 52.79 percent); and (3) for all non-Chinese exporters of subject merchandise that have not received their own separate rate, the cash deposit rate will be the rate applicable to the Chinese exporter that supplied that non-Chinese exporter. These deposit requirements, when imposed, shall remain in effect until further notice.

Notification to Importers

This notice serves as a final reminder to importers of their responsibility under 19 CFR 351.402(f) to file a certificate regarding the reimbursement of antidumping duties or countervailing duties prior to liquidation of the relevant entries during this POR. Failure to comply with this requirement could result in Commerce's presumption that reimbursement of antidumping or countervailing duties occurred and the subsequent assessment of double antidumping duties.

Notification Regarding Administrative Protective Orders

This notice also serves as the only reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review in accordance with sections 751(a)(1) and 777(i)(1) of the Act, and 19 CFR 351.213(h).

Dated: December 20, 2021.
Ryan Majerus,
Deputy Assistant Secretary for Policy and Negotiations, Performing the Non-Exclusive Functions and Duties of the Assistant Secretary for Enforcement and Compliance.

Appendix

List of Topics Discussed in the Issues and Decision Memorandum

I. Summary

II. Background

III. Scope of the Order

IV. Discussion of the Issues

Comment 1: Withdrawal of Jin Tiong's Section A Questionnaire and Rejection of Unsolicited Questionnaire Response for Failure to Submit a Separate Rate Application

Comment 2: Whether Commerce Should Issue a Questionnaire for Sections C and D or Alternatively Rely on Facts Available

V. Recommendation

[FR Doc. 2021-28042 Filed 12-23-21; 8:45 am]

BILLING CODE 3510-DS-P